DEPARTMENT OF AGRICULTURE

Forest Service

Grand Mesa, Uncompahgre, and Gunnison National Forests; Revision of the Land Management Plan for the Grand Mesa, Uncompahgre, and Gunnison National Forests

AGENCY: Forest Service, Agriculture (USDA).

ACTION: Notice of opportunity to object to the revised Land Management Plan and the Regional Forester's list of species of conservation concern for the Grand Mesa, Uncompahgre, and Gunnison National Forests.

SUMMARY: The Forest Service, U.S. Department of Agriculture, is revising the Grand Mesa, Uncompahgre, and Gunnison National Forests' Land Management Plan (Plan). The Forest Service has prepared a Final Environmental Impact Statement (FEIS) for the revised Plan and draft Record of Decision (ROD). This notice is to inform the public that the Grand Mesa, Uncompahgre, and Gunnison National Forests (GMUG National Forests) are initiating a 60-day period where individuals or entities with specific concerns about the Grand Mesa, Uncompahgre, and Gunnison National Forests' revised Plan and the associated FEIS may file objections for Forest Service review prior to the approval of the revised Plan. This is also an opportunity to object to the Regional Forester's list of species of conservation concern for the Grand Mesa, Uncompahgre, and Gunnison National Forests.

DATES: The publication date of the legal notice in the Grand Mesa, Uncompahgre, and Gunnison National Forests' newspaper of record, Grand Junction Sentinel, initiates the 60-day objection filing period and is the exclusive means for calculating the time to file an objection (36 CFR 219.52(c)(5)). An electronic copy of the legal notice with the publication date will be posted at https://www.fs.usda.gov/goto/gmug/forestplan.

ADDRESSES: The Grand Mesa, Uncompahgre, and Gunnison National Forests' revised Plan, FEIS, draft ROD, the Regional Forester's list of species of conservation concern, and other supporting information will be available for review at: https://www.fs.usda.gov/goto/gmug/forestplan or at the following office: Grand Mesa, Uncompahgre, and Gunnison National Forests, 2250 Main Street, Delta, CO 81416, phone: 970-874-6600.

Objections must be submitted to the Objection Reviewing Officer by one of the following methods:

• Electronically to the Objection Reviewing Officer: Electronic objections are preferred and may be submitted through the project web page at https://www.fs.usda.gov/goto/gmug/forestplan/objections; Electronic submissions (including all attachments) must be submitted in a format (Word, PDF, or Rich Text) that is readable and searchable with optical character recognition software. An automated response will confirm your electronic objection has been received.

• Via Regular Mail, Private Carrier, or Hand Delivery to the Following Address: USDA Forest Service, Rocky Mountain Region, Attn: Objection Reviewing Officer, C/O Director of Strategic Planning, 2nd floor, 1617 Cole Blvd., Bldg. 17, Lakewood, CO 80401. For hand delivery, office hours are Monday through Friday, 8 a.m. to 4:30 p.m., excluding Federal holidays.

• By Fax: If fax is the only method available for objection, please contact Administrative Review Specialist Scarlett Vallaire at scarlett.vallaire@usda.gov or 801-989-6605.

FOR FURTHER INFORMATION CONTACT: Forest Plan Revision Team Leader, Samantha Staley, at samantha.j.staley@usda.gov or 970-852-9812. Individuals who use telecommunication devices for the deaf and hard of hearing (TDD) may call the Federal Relay Service (FRS) at 800-877-8339, 24 hours a day, every day of the year, including holidays.

SUPPLEMENTARY INFORMATION: The decision to approve the revised Plan and the Regional Forester's list of species of conservation concern for the Grand Mesa, Uncompahgre, and Gunnison National Forests will be subject to the objection process identified in 36 CFR part 219 subpart B (219.50 to 219.62). Per 36 CFR 219.53, only individuals and entities who have submitted substantive formal comments related to a plan revision during the opportunities for public comment that are attributable to the objector may file an objection unless the objection concerns an issue that arose after the opportunities for formal comment.

How To File an Objection

Objections must be submitted to the Objection Reviewing Officer at the address shown in the ADDRESSES section of this notice. An objection must include the following (36 CFR 219.54(c)):

(1) The objector's name and address along with a telephone number or email address if available. In cases where no identifiable name is attached to an objection, the Forest Service will attempt to verify the identity of the objector to confirm objection eligibility;

(2) Signature or other verification of authorship upon request (a scanned signature for electronic mail may be filed with the objection);

(3) Identification of the lead objector when multiple names are listed on an objection. The Forest Service will communicate to all parties to an objection through the lead objector. Verification of the identity of the lead objector must also be provided if requested;

(4) The name of the plan revision being objected to, and the name and title of the responsible official;

(5) A statement of the issues and/or parts of the plan revision to which the objection applies;

(6) A concise statement explaining the objection and suggesting how the draft plan decision may be improved. If the objector believes that the plan revision is inconsistent with law, regulation, or policy, an explanation should be included;

(7) A statement that demonstrates the link between the objector's prior substantive formal comments and the content of the objection, unless the objection concerns an issue that arose after the opportunities for formal comment; and

(8) All documents referenced in the objection (a bibliography is not sufficient), except the following need not be provided:

a. All or any part of a Federal law or regulation,

b. Forest Service Directive System documents and land management plans or other published Forest Service documents,

c. Documents referenced by the Forest Service in the planning documentation related to the proposal subject to objection, and

d. Formal comments previously provided to the Forest Service by the objector during the proposed plan, plan amendment, or plan revision comment period.

Additionally, objections should be identified as pertaining to the “GMUG National Forests Plan” or the “Regional Forester's Species of Conservation Concern List” for the GMUG National Forests, as these are subject to separate objection processes. Objectors filing objections on both topics should submit these as separate objection letters.

It is the responsibility of the objector to ensure that the Objection Reviewing Officer receives the objection in a timely manner. The regulations generally prohibit extending the length of the objection filing period (36 CFR 219.56(d)). However, when the time period expires on a Saturday, Sunday, or a Federal holiday, the time is extended to the end of the next Federal working day (11:59 p.m. for objections filed by electronic means such as email or facsimile machine) (36 CFR 219.56).

Responsible Official: The responsible official who will approve the ROD for the Grand Mesa, Uncompahgre, and Gunnison National Forests' revised Plan is Forest Supervisor Chad Stewart, Grand Mesa, Uncompahgre, and Gunnison National Forests Headquarters, 2250 South Main Street, Delta, CO 81416, and phone: 970-874-6674. The responsible official for the list of species of conservation concern is Regional Forester Frank Beum, USDA Forest Service Rocky Mountain Region, 1617 Cole Blvd., Lakewood, CO 80401.

The Regional Forester is the reviewing officer for the revised Plan because the Forest Supervisor is the responsible official (36 CFR 219.56(e)). Objection review of the Regional Forester's list of species of conservation concern will be subject to a separate objection process from the objection review of the Plan. The Chief of the Forest Service is the reviewing officer for the list of species of conservation concern because the Regional Forester is the responsible official (36 CFR 219.56(e)(2)). This authority may be delegated to an individual Deputy Chief or Associate Deputy Chief for the National Forest System, consistent with delegations of authority provided in the Forest Service Manual at sections 1235.4 and 1235.5.

Dated: August 30, 2023.
Troy Heithecker,
Associate Deputy Chief, National Forest System.

[FR Doc. 2023-19109 Filed 9-5-23; 8:45 am]

BILLING CODE 3411-15-P